DEPARTMENT OF THE INTERIOR

National Park Service

[NPS-WASO-NAGPRA-NPS0036554; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and associated funerary objects and has determined that there is a cultural affiliation between the human remains and associated funerary objects and Indian Tribes or Native Hawaiian organizations in this notice. The human remains and associated funerary objects were removed from Los Angeles and Ventura Counties, CA.

DATES: Repatriation of the human remains and associated funerary objects in this notice may occur on or after October 16, 2023.

ADDRESSES: Patricia Capone, PMAE, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the PMAE. The National Park Service is not responsible for the determinations in this notice. Additional information on the determinations in this notice, including the results of consultation, can be found in the inventory or related records held by the PMAE.

Description

Human remains representing, at minimum, 43 individuals were removed from Los Angeles County, CA. In 1877, Paul Schumacher led an expedition on behalf of the PMAE to the Channel Islands. Schumacher removed the human remains from an area he described as “Graves at the Isthmus” on Santa Catalina Island. The 15 associated funerary objects are one bone awl; one lot consisting of glass and shell beads; one lot consisting of brass buttons and glass and shell beads; one lot consisting of shell beads and faunal fragments; one lot consisting of fragmentary faunal remains; one lot consisting of a copper cup, cloth, basket fragments, and a string of beads; and nine bags of shells beads.

Human remains representing, at minimum, two individuals were removed from Los Angeles County, CA. During the 1877 expedition, Schumacher removed the human remains from an area he identified as Johnson's Place on Santa Catalina Island. No associated funerary objects are present.

Human remains representing, at minimum, two individuals were removed from Los Angeles County, CA. As part of the same 1877 expedition, Schumacher removed the human remains from an area he identified as Pots Valley on Santa Catalina Island. No associated funerary objects are present.

Human remains representing, at minimum, 23 individuals were removed from Los Angeles County, CA. In 1877, Paul Schumacher visited San Clemente Island as part of the PMAE expedition and removed the human remains from unknown locations on San Clemente Island. No associated funerary objects are present.

Human remains representing, at minimum, five individuals were removed from Los Angeles County, CA. In 1878, Paul Schumacher led an expedition on behalf of the PMAE to the Channel Islands. During this expedition, he removed the human remains from a place he identified as Whitney's Place on Santa Catalina Island. No associated funerary objects are present.

Human remains representing, at minimum, one individual was removed from San Nicolas Island in Ventura County, CA, at an unknown date. Mrs. Thomas Bishop donated the human remains to the PMAE in 1907. Bishop likely acquired the human remains from Paul Schumacher after one of his expeditions to San Nicolas Island between 1875 and 1878. No known associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of evidence were used to reasonably trace the relationship: oral traditional, geographical, biological, kinship, and archeological.

Oral tradition, geographical, biological, kinship, and archeological evidence indicate the southern Channel Islands are culturally affiliated to the mainland coastal groups that are known in the anthropological record as the Luiseño, Chumash, and Gabrielino peoples. (The Gabrielino, a nonfederally recognized Indian group, are related linguistically to the Luiseño.)

Determinations

Pursuant to NAGPRA and its implementing regulations, and after consultation with the appropriate Indian Tribes and Native Hawaiian organizations, the PMAE has determined that:

• The human remains described in this notice represent the physical remains of 76 individuals of Native American ancestry.

• The 15 objects described in this notice are reasonably believed to have been placed with or near individual human remains at the time of death or later as part of the death rite or ceremony.

• There is a relationship of shared group identity that can be reasonably traced between the human remains and associated funerary objects described in this notice and the La Jolla Band of Luiseno Indians, California; Pala Band of Mission Indians; Pauma Band of Luiseno Mission Indians of the Pauma & Yuima Reservation, California; Pechanga Band of Indians (Previously listed as Pechanga Band of Luiseno Mission Indians of the Pechanga Reservation, California); Rincon Band of Luiseno Indians (Previously listed as Rincon Band of Luiseno Mission Indians of Rincon Reservation, California); Santa Ynez Band of Chumash Mission Indians of the Santa Ynez Reservation, California; and the Soboba Band of Luiseno Indians, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 16, 2023. If competing requests for repatriation are received, the PMAE must determine the most appropriate requestor prior to repatriation. Requests for joint repatriation of the human remains and associated funerary objects are considered a single request and not competing requests. The PMAE is responsible for sending a copy of this notice to the Indian Tribes identified in this notice.

Authority: Native American Graves Protection and Repatriation Act, 25 U.S.C. 3003, and the implementing regulations, 43 CFR 10.9, 10.10, and 10.14.

Dated: September 8, 2023.
Melanie O'Brien,
Manager, National NAGPRA Program.

[FR Doc. 2023-19959 Filed 9-14-23; 8:45 am]

BILLING CODE 4312-52-P